TENNESSEE VALLEY AUTHORITY

Meeting of the Regional Resource Stewardship Council

AGENCY: Tennessee Valley Authority (TVA).

ACTION: Notice of Meeting.

SUMMARY: The TVA Regional Resource Stewardship Council (RRSC) will hold a meeting on Wednesday, April 24, and Thursday, April 25, 2013, to obtain views and advice on the topic of Trout Fish Hatchery projects in Tennessee and Georgia.

The RRSC was established to advise TVA on its natural resource stewardship activities. Notice of this meeting is given under the Federal Advisory Committee Act (FACA), 5 U.S.C. App. 2.

The meeting agenda includes the following:

1. Introductions

2. Presentation(s) concerning Trout Fish Hatchery projects in Tennessee and Georgia, the need for a sustainable business model for funding these programs, other agencies' work with fish hatcheries, and partnership efforts to sustain trout hatcheries

3. Public Comments

4. Council Discussion and Advice

The RRSC will hear opinions and views of citizens by providing a public comment session. The public comment session will be held at 9:30 a.m., CDT, on Thursday, April 25. Persons wishing to speak are requested to register at the door by 8:30 a.m. on Thursday, April 25 and will be called on during the public comment period. Handout materials should be limited to one printed page. Written comments are also invited and may be mailed to the Regional Resource Stewardship Council, Tennessee Valley Authority, 400 West Summit Hill Drive, WT-11 B, Knoxville, Tennessee 37902.

DATES: The meeting will be held on Wednesday, April 24 from 8:00 a.m. to noon and Thursday, April 25, from 8:00 a.m. to noon, CDT.

ADDRESSES: The meeting will be held at the Guntersville State Park Lodge, 1155 Lodge Drive, Guntersville, Alabama 35976-9126 and will be open to the public. Anyone needing special access or accommodations should let the contact below know at least a week in advance.

FOR FURTHER INFORMATION CONTACT: Beth Keel, 400 West Summit Hill Drive, WT-11 B, Knoxville, Tennessee 37902, (865) 632-6113.

Dated: March 29, 2013.
Joseph J. Hoagland,
Senior Vice President, Policy & Oversight, Tennessee Valley Authority.

[FR Doc. 2013-07695 Filed 4-2-13; 8:45 am]

BILLING CODE 8120-08-P